DEPARTMENT OF AGRICULTURE

Animal and Plant Health Inspection Service

[Docket No. APHIS-2013-0103]

Notice of Request for Revision to and Extension of Approval of an Information Collection; Johne's Disease

AGENCY: Animal and Plant Health Inspection Service, USDA.

ACTION: Revision to and extension of approval of an information collection; comment request.

SUMMARY: In accordance with the Paperwork Reduction Act of 1995, this notice announces the Animal and Plant Health Inspection Service's intention to request a revision to and extension of approval of an information collection associated with the interstate movement of animals affected with Johne's disease.

DATES: We will consider all comments that we receive on or before April 11, 2014.

ADDRESSES: You may submit comments by either of the following methods:

• Federal eRulemaking Portal: Go to http://www.regulations.gov/#!documentDetail;D=APHIS-2013-0103-0001.

• Postal Mail/Commercial Delivery: Send your comment to Docket No. APHIS-2013-0103, Regulatory Analysis and Development, PPD, APHIS, Station 3A-03.8, 4700 River Road Unit 118, Riverdale, MD 20737-1238.

Supporting documents and any comments we receive on this docket may be viewed at http://www.regulations.gov/#!docketDetail;D=APHIS-2013-0103 or in our reading room, which is located in Room 1141 of the USDA South Building, 14th Street and Independence Avenue SW., Washington, DC. Normal reading room hours are 8 a.m. to 4:30 p.m., Monday through Friday, except holidays. To be sure someone is there to help you, please call (202) 799-7039 before coming.

FOR FURTHER INFORMATION CONTACT: For information on the interstate movement of animals affected with Johne's disease, contact Dr. Dean Goeldner, Senior Staff Veterinarian, Cattle Health Center, VS, APHIS, 4700 River Road Unit 43, Riverdale, MD 20737; (301) 851-3511. For copies of more detailed information on the information collection, contact Mrs. Celeste Sickles, APHIS' Information Collection Coordinator, at (301) 851-2908.

SUPPLEMENTARY INFORMATION: Title: Johne's Disease.

OMB Control Number: 0579-0338.

Type of Request: Revision to and extension of approval of an information collection.

Abstract: Under the Animal Health Protection Act (7 U.S.C. 8301 et seq.), the U.S. Department of Agriculture's (USDA's) Animal and Plant Health Inspection Service (APHIS) is authorized, among other things, to prevent the introduction and interstate spread of serious diseases and pests of livestock and for eradicating such diseases and pests from the United States when feasible. In support of this mission, APHIS' Veterinary Services (VS) prohibits or restricts the interstate movement of livestock that have, or have been exposed to, certain diseases.

Johne's disease, also known as paratuberculosis, is caused by Mycobacterium avium subspecies paratuberculosis and primarily affects cattle, sheep, goats, and other domestic, exotic, and wild ruminants. The disease is a chronic and contagious enteritis that results in progressive wasting and eventual death. It is nearly always introduced into a healthy herd by an infected animal that is not showing symptoms of the disease.

The regulations in 9 CFR, chapter I, subchapter C, govern the interstate movement of animals to prevent the dissemination of livestock and poultry diseases in the United States. Subchapter C, part 71, contains general provisions for the interstate movement of animals, poultry, and their products, while part 80 pertains specifically to the interstate movement of domestic animals that are positive to an official test for Johne's disease. These regulations provide that cattle, sheep, goats, and other domestic animals that are positive to an official test for Johne's disease may generally be moved interstate only to a recognized slaughtering establishment or to an approved livestock facility for sale to such an establishment. They may also be moved for purposes other than slaughter under certain conditions.

APHIS previously supplemented these regulations with standards outlined in the document, “Uniform Program Standards for the Voluntary Bovine Johne's Disease Control Program” (VBJDCP). However, in 2012, APHIS discontinued the VBJDCP and States began conducting their own Johne's disease monitoring programs and using their own forms rather than those required by APHIS and previously approved by the Office of Management and Budget (OMB) under OMB control number 0579-0338. As a result, APHIS has revised the information collection activities for the Johne's disease program to only require a USDA-APHIS VS Permit for Movement of Restricted Animals (VS Form 1-27) and official ear tags.

Due to the reduction in the number of forms required by APHIS, the estimated annual number of respondents has decreased from 9,125 to 3, the estimated annual number of responses has decreased from 66,105 to 6, and the estimated total annual burden on respondents has decreased from 38,187 hours to 3 hours.

We are asking OMB to approve our use of these information collection activities, as described, for an additional 3 years.

The purpose of this notice is to solicit comments from the public (as well as affected agencies) concerning our information collection. These comments will help us:

(1) Evaluate whether the collection of information is necessary for the proper performance of the functions of the Agency, including whether the information will have practical utility;

(2) Evaluate the accuracy of our estimate of the burden of the collection of information, including the validity of the methodology and assumptions used;

(3) Enhance the quality, utility, and clarity of the information to be collected; and

(4) Minimize the burden of the collection of information on those who are to respond, through use, as appropriate, of automated, electronic, mechanical, and other collection technologies; e.g., permitting electronic submission of responses.

Estimate of burden: The public reporting burden for this collection of information is estimated to average 0.5 hours per response.

Respondents: Accredited veterinarians, herd owners, and livestock shippers.

Estimated annual number of respondents: 3.

Estimated annual number of responses per respondent: 2.

Estimated annual number of responses: 6.

Estimated total annual burden on respondents: 3 hours. (Due to averaging, the total annual burden hours may not equal the product of the annual number of responses multiplied by the reporting burden per response.)

All responses to this notice will be summarized and included in the request for OMB approval. All comments will also become a matter of public record.

Done in Washington, DC, this 3rd day of February 2014.
Kevin Shea,
Administrator, Animal and Plant Health Inspection Service.

[FR Doc. 2014-02761 Filed 2-7-14; 8:45 am]

BILLING CODE 3410-34-P